DEPARTMENT OF ENERGY

Federal Energy Regulatory Commission

Combined Notice of Filings #1

Take notice that the Commission received the following electric rate filings:

Docket Numbers: ER06-1409-007; ER06-1407-007; ER06-1408-007; ER08-579-009; ER08-578-008; ER19-902-002; ER06-1413-007.

Applicants: Noble Clinton Windpark I, LLC, Valcour Wind Energy, LLC, Noble Chateaugay Windpark, LLC, Noble Wethersfield Windpark, LLC, Noble Ellenberg Windpark, LLC, Noble Bliss Windpark, LLC, Noble Altona Windpark, LLC.

Description: Notice of Change in Status of Valcour Altona Windpark, LLC, et. al.

Filed Date: 3/2/22.

Accession Number: 20220302-5300.

Comment Date: 5 p.m. ET 3/23/22.

Docket Numbers: ER10-1484-024; ER12-2381-010; ER13-1069-013.

Applicants: MP2 Energy LLC, MP2 Energy NE LLC, Shell Energy North America (US), L.P.

Description: Notice of Change in Status of Shell Energy North America (US), L.P., et al.

Filed Date: 3/3/22.

Accession Number: 20220303-5230.

Comment Date: 5 p.m. ET 3/24/22.

Docket Numbers: ER10-1625-009.

Applicants: Tenaska Georgia Partners, L.P.

Description: Notice of Change in Status of Tenaska Georgia Partners, L.P.

Filed Date: 3/3/22.

Accession Number: 20220303-5222.

Comment Date: 5 p.m. ET 3/24/22.

Docket Numbers: ER10-1890-020; ER10-1899-017; ER11-2160-020; ER10-1918-024; ER10-1907-023; ER11-2642-021; ER10-1930-015; ER10-1931-016; ER10-1935-017; ER10-1932-017; ER13-2147-004; ER10-1950-024; ER13-2112-015; ER16-90-013; ER17-2340-010; ER15-2477-013; ER15-2101-011; ER20-2019-005; ER19-2389-007; ER15-2601-009; ER18-1952-011; ER19-2398-009; ER21-254-005; ER11-3635-017; ER21-1953-003; ER18-2246-013; ER19-1392-008; ER20-2064-005; ER12-1228-027; ER10-1962-019; ER21-2225-003; ER20-2690-005; ER16-2275-015; ER16-2276-015; ER18-1771-013; ER12-2225-016; ER14-2138-013; ER12-2226-016; ER21-2117-003; ER16-1354-012; ER10-1966-017; ER18-2003-011; ER14-2707-022; ER14-1630-013; ER16-1872-014; ER15-1375-014; ER18-2182-011; ER12-895-025; ER20-1907-004; ER21-2149-003; ER21-2699-003;ER18-2066-006; ER20-2695-005; ER18-1535-008; ER14-21-011.

Applicants: Mountain View Solar, LLC, Montauk Energy Storage Center, LLC, Mohave County Wind Farm LLC, Minco Wind IV, LLC, Minco Wind Energy III, LLC, Minco Wind Energy II, LLC, Minco Wind I, LLC, Minco Wind Interconnection Services, LLC, Minco IV & V Interconnection, LLC, McCoy Solar, LLC, Marshall Solar, LLC, Mantua Creek Solar, LLC, Mammoth Plains Wind Project, LLC, Lorenzo Wind, LLC, Logan Wind Energy LLC, Live Oak Solar, LLC, Little Blue Wind Project, LLC, Limon Wind, LLC, Limon Wind III, LLC,Limon Wind II, LLC, Langdon Renewables, LLC, Kingman Wind Energy II, LLC, Kingman Wind Energy I, LLC, Jordan Creek Wind Farm LLC, Irish Creek Wind, LLC, High Winds, LLC, High Majestic Wind II, LLC, High Majestic Wind I, LLC, High Lonesome Mesa Wind, LLC, Heartland Divide Wind Project, LLC, Heartland Divide Wind II, LLC, Hatch Solar Energy Center I, LLC, Harmony Florida Solar, LLC, Hancock County Wind, LLC, Gulf Power Company, Green Mountain Storage, LLC, Grazing Yak Solar, LLC, Gray County Wind, LLC, Golden West Power Partners, LLC, Golden Hills Wind, LLC, Golden Hills North Wind, LLC, Golden Hills Interconnection, LLC, Genesis Solar, LLC, Garden Wind, LLC, Frontier Utilities New York LLC, FPL Energy Wyman, LLC, FPL Energy Wyman IV, LLC, FPL Energy Vansycle, L.L.C., FPL Energy Stateline II, Inc., FPL Energy South Dakota Wind, LLC, FPL Energy North Dakota Wind, LLC, FPL Energy North Dakota Wind II, LLC, FPL Energy Montezuma Wind, LLC, FPL Energy Illinois Wind, LLC, FPL Energy Green Power Wind, LLC.

Description: Notice of Change in Status of NextEra Companies, et al. (Part 2 of 4).

Filed Date: 3/2/22.

Accession Number: 20220302-5299.

Comment Date: 5 p.m. ET 3/23/22.

Docket Numbers: ER10-2042-040; ER10-1942-032; ER17-696-020; ER10-1941-015; ER19-1127-005; ER10-1938-035; ER10-1934-034; ER10-1893-034; ER10-3051-039; ER10-2985-038; ER10-3049-039; ER10-1888-015; ER10-1885-015; ER10-1884-015; ER10-1883-015; ER10-1878-015; ER20-1699-003; ER10-1876-016; ER10-1875-015; ER10-1873-015; ER11-4369-019; ER16-2218-020; ER12-1987-013; ER10-1947-016; ER12-2645-008; ER10-1863-010; ER10-1862-034; ER12-2261-014; ER10-1865-015.

Applicants: South Point Energy Center, LLC, Russell City Energy Company, LLC, Power Contract Financing, L.L.C., Pine Bluff Energy, LLC, Pastoria Energy Facility L.L.C., Otay Mesa Energy Center, LLC, O.L.S. Energy-Agnews, Inc., North American Power Business, LLC, North American Power and Gas, LLC, Metcalf Energy Center, LLC, Los Medanos Energy Center LLC, Los Esteros Critical Energy Facility, LLC, Johanna Energy Center, LLC, Goose Haven Energy Center, LLC, Gilroy Energy Center, LLC, Geysers Power Company, LLC, Delta Energy Center, LLC, Creed Energy Center, LLC, Champion Energy Services, LLC, Champion Energy Marketing LLC, Champion Energy, LLC, CES Marketing X, LLC, CES Marketing IX, LLC, Calpine Power America—CA, LLC, Calpine King City Cogen, LLC, Calpine Gilroy Cogen, L.P., Calpine Energy Solutions, LLC, Calpine Construction Finance Co., L.P., Calpine Energy Services, L.P.

Description: Notice of Change in Status of Calpine Energy Services, L.P., et al.

Filed Date: 3/3/22.

Accession Number: 20220303-5195.

Comment Date: 5 p.m. ET 3/24/22.

Docket Numbers: ER10-2401-009; ER20-2746-002.

Applicants: Riverstart Solar Park LLC, Blue Canyon Windpower II LLC.

Description: Notice of Change in Status of Blue Canyon Windpower II LLC, et al.

Filed Date: 3/3/22.

Accession Number: 20220303-5223.

Comment Date: 5 p.m. ET 3/24/22.

Docket Numbers: ER10-2460-020; ER10-2461-021; ER12-682-021; ER13-17-019.

Applicants: Niagara Wind Power, LLC, Erie Wind, LLC, Canandaigua Power Partners II, LLC, Canandaigua Power Partners, LLC.

Description: Notice of Non-Material Change in Status of Canandaigua Power Partners, LLC, et. al.

Filed Date: 3/3/22.

Accession Number: 20220303-5226.

Comment Date: 5 p.m. ET 3/24/22.

Docket Numbers: ER10-2881-000; ER10-2881-039; ER10-2882-000; ER10-2883-000; ER10-2884-000; ER16-2509-000; ER17-2400-000; ER17-2401-000; ER17-2403-000; ER17-2404-000; ER10-2882-039; ER10-2883-037; ER10-2884-037; ER16-2509-008; ER17-2400-009; ER17-2401-009; ER17-2404-009; ER17-2403-009.

Applicants: SP Sandhills Solar, LLC, SP Pawpaw Solar, LLC, SP Decatur Parkway Solar, LLC, SP Butler Solar, LLC, Rutherford Farm, LLC, Georgia Power Company, Mississippi Power Company, Southern Power Company, Alabama Power Company.

Description: Notice of Change in Status of Alabama Power Company, et al.

Filed Date: 3/3/22.

Accession Number: 20220303-5217.

Comment Date: 5 p.m. ET 3/24/22.

Docket Numbers: ER10-3050-009; ER10-3053-009.

Applicants: Whitewater Hill Wind Partners, LLC, Cabazon Wind Partners, LLC.

Description: Notice of Non-Material Change in Status of Cabazon Wind Partners, LLC, et al.

Filed Date: 3/3/22.

Accession Number: 20220303-5220.

Comment Date: 5 p.m. ET 3/24/22.

Docket Numbers: ER11-4462-060; ER18-772-008; ER16-2443-010; ER17-1774-007; ER10-1970-023; ER17-838-035; ER11-4677-020; ER10-1972-023; ER10-1973-017; ER10-1951-038; ER16-2241-015; ER21-1880-002; ER10-1975-028; ER12-2444-019; ER10-1974-028; ER20-1988-005; ER20-1985-004; ER20-2648-005; ER21-183-003; ER20-792-005; ER10-2641-040; ER20-1220-005; ER20-1879-006; ER16-2506-015; ER20-2012-004; ER16-2297-015; ER14-2710-022; ER15-58-020; ER11-2365-008; ER19-11-007; ER20-1219-004; ER18-2224-014; ER12-676-016; ER13-2461-018; ER17-196-008; ER18-807-009; ER21-2100-003; ER20-1991-005; ER18-1981-011; ER21-2641-002; ER19-2266-006; ER21-1532-002; ER11-2192-019; ER16-1913-009; ER16-1440-016; ER20-1417-005; ER22-96-002; ER19-1128-005; ER16-2240-016; ER21-2048-003.

Applicants: Sac County Wind, LLC, Rush Springs Wind Energy, LLC, Rush Springs Energy Storage, LLC, Route 66 Solar Energy Center, LLC, Roundhouse Renewable Energy, LLC, Roswell Solar, LLC, River Bend Solar, LLC, Red Mesa Wind, LLC, Quitman II Solar, LLC, Quitman Solar, LLC, Quinebaug Solar, LLC, Pratt Wind, LLC, Ponderosa Wind, LLC, Point Beach Solar, LLC, Pinal Central Energy Center, LLC, Pima Energy Storage System, LLC, Pheasant Run Wind, LLC, Perrin Ranch Wind, LLC, Pegasus Wind, LLC, Peetz Table Wind, LLC, Peetz Logan Interconnect, LLC, Paradise Solar Urban Renewal, L.L.C., Palo Duro Wind Interconnection Services, LLC, Palo Duro Wind Energy, LLC, Osborn Wind Energy, LLC, Orbit Bloom Energy, LLC, Oliver Wind III, LLC, Oliver Wind I, LLC, Oliver Wind II, LLC, Oleander Power Project, Limited Partnership, Oklahoma Wind, LLC, Nutmeg Solar, LLC, Northern Divide Wind, LLC, Northern Colorado Wind Energy Center, LLC, Northern Colorado Wind Energy Center II, LLC, Northeast Energy Associates, L.P., North Sky River Energy, LLC, North Jersey Energy Associates, L.P., Niyol Wind, LLC, Ninnescah Wind Energy, LLC, Gexa Energy L.L.C., NextEra Energy Seabrook, LLC, NextEra Energy Point Beach, LLC, NextEra Energy Montezuma II Wind, LLC, NextEra Energy Marketing, LLC, NextEra Energy Duane Arnold, LLC, NextEra Energy Bluff Point, LLC, NextEra Blythe Solar Energy Center, LLC, New Mexico Wind, LLC, NEPM II, LLC.

Description: Notice of Change in Status of NextEra Companies, et al. (Part 3 of 4).

Filed Date: 3/2/22.

Accession Number: 20220302-5301.

Comment Date: 5 p.m. ET 3/23/22.

Docket Numbers: ER16-1913-010; ER10-1852-059; ER10-1951-039; ER11-4462-061; ER17-838-036.

Applicants: NextEra Energy Marketing, LLC, River Bend Solar, LLC, NEPM II, LLC, Gexa Energy L.L.C., Florida Power & Light Company.

Description: Notice of Change in Status of Florida Power & Light Company, et al.

Filed Date: 3/3/22.

Accession Number: 20220303-5228.

Comment Date: 5 p.m. ET 3/24/22.

The filings are accessible in the Commission's eLibrary system (https://elibrary.ferc.gov/idmws/search/fercgensearch.asp) by querying the docket number. Any person desiring to intervene or protest in any of the above proceedings must file in accordance with Rules 211 and 214 of the Commission's Regulations (18 CFR 385.211 and 385.214) on or before 5:00 p.m. Eastern time on the specified comment date. Protests may be considered, but intervention is necessary to become a party to the proceeding. eFiling is encouraged. More detailed information relating to filing requirements, interventions, protests, service, and qualifying facilities filings can be found at: http://www.ferc.gov/docs-filing/efiling/filing-req.pdf. For other information, call (866) 208-3676 (toll free). For TTY, call (202) 502-8659.

Dated: March 4, 2022.
Kimberly D. Bose,
Secretary.

[FR Doc. 2022-05055 Filed 3-9-22; 8:45 am]

BILLING CODE 6717-01-P